DEPARTMENT OF COMMERCE

National Oceanic and Atmospheric Administration

RIN 0648-XC412

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) will hold a work session, which is open to the public.

DATES: The HMSMT work session will begin each day at 8:30 a.m. on Wednesday, January 23; Thursday, January 24; and Friday, January 25, 2013. On each day the meeting will continue until business is completed.

ADDRESSES: The work sessions will be held in the Large Conference Room, Torrey Pines Court, National Marine Fisheries Service Southwest Fisheries Science Center, 3333 North Torrey Pines Court, La Jolla, CA 92037; telephone: (858) 546-7000.

Council address: Pacific Fishery Management Council, 7700 NE. Ambassador Place, Suite 101, Portland, OR 97220-1384.

FOR FURTHER INFORMATION CONTACT: Dr. Kit Dahl, Pacific Council; telephone: (503) 820-2280.

SUPPLEMENTARY INFORMATION: The HMSMT will work on an assignment for the March 2013 Council meeting in Tacoma, WA. The Council directed the HMSMT to determine if any changes can be made to the closure dates for, and/or the southern boundary of, the Pacific Leatherback Conservation Area (PLCA) in order to enhance fishing opportunity in the California drift gillnet fishery. Since the PLCA was established to reduce the take of endangered leatherback sea turtles in this fishery, other mitigation measures may be considered to compensate for any additional fishing opportunity. Specifically, the HMSMT will consider a regulatory limit on the annual number of incidental take interactions allowed in the fishery. This regulatory approach has been used successfully in the Hawaii-based shallow-set pelagic longline fishery to limit takes of leatherback and loggerhead sea turtles.

The HMSMT will also begin work on the next Stock Assessment and Fishery Evaluation document, which is prepared annually, summarizing information from the previous year. Informational topics may also be discussed, time permitting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Dated: December 18, 2012.
Tracey L. Thompson,
Acting Deputy Director, Office of Sustainable Fisheries, National Marine Fisheries Service.

[FR Doc. 2012-30765 Filed 12-20-12; 8:45 am]

BILLING CODE 3510-22-P